NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 15, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of the Air Force, Agency-wide (N1-AFU-03-11, 41 items, 40 temporary items). Records relating to management of personnel and other resources for aviation and parachuting operations. Included are electronic data, aeronautical orders, incentive pay entitlement records, other military pay records, training records, mission accomplishment reports, sonic boom records, aircrew qualification certificates, waivers of flying or parachuting requirements, and flight, jump, and flight evaluation record folders. Proposed for permanent retention are recordkeeping copies of final individual flight records.

2. Department of the Army, Agency-wide, (N1-AU-06-14, 3 items, 3 temporary items). Records relating to the training, authorization and certification of Army law enforcement personnel carrying firearms. This schedule authorizes the agency to apply the proposed disposition instructions to any recordkeeping medium.

3. Department of Defense, Office of the Secretary of Defense, (N1-330-07-2, 1 item, 1 temporary item). Master file associated with an electronic information system used to track real and personal property. Data includes item authorizations, document registers, parts and equipment catalog information, hand receipt information, accounting data, maintenance and utilization information, and user history data.

4. Department of the Interior, National Park Service (N1-79-06-2, 8 items, 4 temporary items). Records of the Electronic Technical Information Center system, including metadata files covering circulation information and storage and disposition of records, and copies of source documents used to create microfilm versions. Also included are images of source documents in paper and electronic formats. Proposed for permanent retention are the master image files, optical character recognition text files, metadata files describing source documents and related audio-visual records, and system documentation.

5. Department of Justice, Bureau of Prisons (N1-129-06-3, 7 items, 5 temporary items). Files relating to hazardous materials maintained by the Bureau of Prisons. Proposed for permanent retention are recordkeeping copies of records documenting Bureau of Prisons landfills.

6. Department of Justice, Bureau of Prisons (N1-129-07-1, 3 items, 3 temporary items). Records pertaining to public comments, federal regulation documents, electronic federal regulation development records, and electronic rule documents in the eRulemaking System. This schedule authorizes the agency to apply the proposed disposition instructions to any recordkeeping medium.

7. Department of Justice, Bureau of Prisons (N1-129-07-2, 3 items, 3 temporary items). Regional Administrator's records including correspondence and reference files, program reports, statistical summaries, and working files. This schedule authorizes the agency to apply the proposed disposition instructions to any recordkeeping medium.

8. Department of Justice, Bureau of Prisons (N1-129-07-4, 1 item, 1 temporary item). Regional Community Corrections Administrator records including correspondence and monitoring files, and contractor files relating to housing, special services, treatment summaries, billings, treatment reports and plans, and release information of inmates.

9. Department of Justice, Bureau of Prisons (N1-129-07-5, 5 items, 5 temporary items). Criminal files relating to U.S. Attorney's investigations and inquiries including witness statements, custody documentation and other documentation related to inmates while in Federal custody. Also included are inputs, outputs, and data associated with an electronic information system used to track legal inquiries. This schedule authorizes the agency to apply the proposed disposition instructions to any recordkeeping medium.

10. Department of Justice, Bureau of Prisons (N1-129-07-6, 2 items, 2 temporary items). Records relating to regional correctional programs including special designation requests, special supervision, destructive groups, and threats to government officials. This schedule authorizes the agency to apply the proposed disposition instructions to any recordkeeping medium.

11. Department of Justice, Bureau of Prisons (N1-129-07-7, 3 items, 3 temporary items). Regional Counsel records including legal research, subject files, pleading files, and working files of proposed updated policies. This schedule authorizes the agency to apply the proposed disposition instructions to any recordkeeping medium.

12. Department of Justice, Bureau of Prisons (N1-129-07-8, 1 item, 1 temporary item). Regional Crisis Support Program Team Certification files, including certification accounting files, training records, and staff and roster records used to implement local Crisis Support Team programs. This schedule authorizes the agency to apply the proposed disposition instructions to any recordkeeping medium.

13. Department of Justice, Civil Division (N1-60-05-13, 4 items, 2 temporary items). Inputs and outputs of the case management system. Proposed for permanent retention are the master file and system documentation.

14. Department of Navy, United States Marine Corps, Agency-wide (N1-NU-06-7, 5 items, 2 temporary items). Records relating to awards granted or denied, documented in the Awards Processing System. Records are paper and electronic data input files, including legacy systems migrated, supporting documents to grant or deny the award, and paper print outs. Proposed for permanent retention are master files and system documentation.

15. Department of Transportation, Federal Railroad Administration (N1-399-07-13, 2 items, 1 temporary item). Copies of final deliverables and reports relating to railroad safety and rail transportation policy. Proposed for permanent retention are recordkeeping copies of programmatic or mission-related final deliverables and reports. This schedule authorizes the agency to apply the proposed disposition instructions to any recordkeeping media.

16. Department of Transportation, Federal Railroad Administration (N1-399-07-14, 1 item. 1 temporary item). Office of Railroad Development files relating to the publication of notices in the Federal Register including drafts and final notices, tear sheets, newspaper clippings, and citations and abstracts of articles. This schedule authorizes the agency to apply the proposed disposition instructions to any recordkeeping medium.

17. Department of the Treasury, Internal Revenue Service (N1-58-07-5, 4 items, 4 temporary items). Inputs, outputs, master file, and system documentation of the Custodial Audit Support Tracking System which tracks unpaid assessments used for Government Accountability Office audits.

18. Department of Veterans Affairs, Veterans Health Administration (N1-15-07-3, 20 items, 17 temporary items). Records created by the Office of Research Oversight relating to matters of compliance and assurance pertaining to medical research involving human subjects and, laboratory animals, research safety and security issues, and research impropriety and misconduct. Included are assurance files, case files, compliance review decisions and supporting documents, outreach materials, quality assurance records, reference documents, and work papers. Proposed for permanent retention are recordkeeping copies of briefing records, annual reports to Congress, and policy precedent records.

19. Federal Maritime Commission (N1-358-07-1, 11 items, 11 temporary items). Records maintained by the Bureau of Trade Analysis documenting shipping service contracts and arrangements. This schedule authorizes the agency to apply the proposed disposition instructions to any recordkeeping medium.

20. Library of Congress, Copyright Office (N1-297-07-1, 1 item, 1 temporary item). Notices of judicial actions and decisions on copyright cases, including Form AO121.

21. National Archives and Records Administration, Agency-wide (N1-64-07-4, 1 item, 1 temporary item). Original documentation of travel and miscellaneous expenses receipt files that support authorization and reimbursements made through an electronic travel administration system. Included are lodging and common carrier receipts, vehicle rental receipts, and other documentation of expenses.

22. Small Business Administration, Executive Secretariat Office (N1-309-07-1, 4 items, 1 temporary item). Inputs associated with an electronic information system used to record, route and track all incoming and outgoing correspondence to the Administrator, Deputy Administrator, Chief of Staff, and other program and field offices. Proposed for permanent retention are the master file, outputs, and system documentation.

Dated: May 10, 2007.
Michael J. Kurtz,
Assistant Archivist for Records Services—Washington, DC.

[FR Doc. E7-9381 Filed 5-15-07; 8:45 am]

BILLING CODE 7515-01-P